DEPARTMENT OF HEALTH AND HUMAN SERVICES

Public Health Service

42 CFR Part 73

Select Agents and Toxins

CFR Correction

In Title 42 of the Code of Federal Regulations, Parts 1 to 399, revised as of October 1, 2016, on page 580, in § 73.13, at the end of paragraph (a)(2), the expression “ng/kg body weight.” is added.

[FR Doc. 2017-04799 Filed 3-9-17; 8:45 am]

BILLING CODE 1301-00-D